DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 8, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On September 8, 2025, OFAC determined that the property and interests in property subject to U.S. jurisdiction of the following persons are blocked under the relevant sanctions authorities listed below.

Individuals

1. OO, Saw Min Min, Yatai New City, Shwe Kokko, Burma; DOB 16 May 1957; nationality Burma; Gender Male; National ID No. 3/Baahna(N)259667 (Burma) (individual) [TCO] [BURMA-EO14014] (Linked To: KAREN NATIONAL ARMY).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended), for being owned or controlled by, or having acted or purported to act for or on behalf of, directly or indirectly, KAREN NATIONAL ARMY, a person whose property and interests in property are blocked pursuant to E.O. 13581, as amended.

Designated pursuant to section 1(a)(vii) of Executive Order 14014, “Blocking Property With Respect to the Situation in Burma” 86 FR 9429 (February 12, 2021) (E.O. 14014) for being owned or controlled by, or having acted or purported to act for or on behalf of, directly or indirectly, KAREN NATIONAL ARMY, a person whose property and interests in property are blocked pursuant to E.O. 14014.

2. WIN, Tin (a.k.a. WIN, Saw Tin), Burma; DOB 25 Jul 1969; nationality Burma; Gender Male; National ID No. 3/Mawata(N)038002 (Burma) (individual) [TCO] [BURMA-EO14014] (Linked To: KAREN NATIONAL ARMY).

Designated pursuant to section 1(a)(ii)(C) of E.O. 13581, as amended, for being owned or controlled by, or having acted or purported to act for or on behalf of, directly or indirectly, KAREN NATIONAL ARMY, a person whose property and interests in property are blocked pursuant to E.O. 13581, as amended.

Designated pursuant to section 1(a)(vii) of E.O. 14014 for being owned or controlled by, or having acted or purported to act for or on behalf of, directly or indirectly, KAREN NATIONAL ARMY, a person whose property and interests in property are blocked pursuant to E.O. 14014.

BILLING CODE 4810-AL-P

BILLING CODE 4810-AL-C

Entities

1. CHIT LINN MYING CO., LTD. (a.k.a. CHIT LIN MYAING COMPANY; a.k.a. CHIT LINN MYAING; a.k.a. CHIT LINN MYAING CO., LTD), No. 1, Shwe Kokko, Myawaddy, Kayin State, Burma; Registration Number 1206/2005-2006 (Burma) issued 19 Sep 2005 [TCO] [BURMA-EO14014] (Linked To: KAREN NATIONAL ARMY).

Designated pursuant to section 1(a)(ii)(C) of E.O. 13581, as amended, for being owned or controlled by, or having acted or purported to act for or on behalf of, directly or indirectly, KAREN NATIONAL ARMY, a person whose property and interests in property are blocked pursuant to E.O. 13581, as amended.

Designated pursuant to section 1(a)(vii) of E.O. 14014 for being owned or controlled by, or having acted or purported to act for or on behalf of, directly or indirectly, KAREN NATIONAL ARMY, a person whose property and interests in property are blocked pursuant to E.O. 14014.

2. CHIT LINN MYAING MINING AND INDUSTRY COMPANY LIMITED (a.k.a. CHIT LINN MYAING MINING & INDUSTRY COMPANY LIMITED), Bogyoke Road, No. 5 Quarter, Hpa-An Township, Kayin State, Burma; Organization Type: Mining of other non-ferrous metal ores; Registration Number 111745919 (Burma) issued 22 Nov 2005; alt. Registration Number 1605/2005-2006 (Burma) issued 22 Nov 2005 [TCO] [BURMA-EO14014] (Linked To: THU, Saw Chit).

Designated pursuant to section 1(a)(ii)(C) of E.O. 13581, as amended, for being owned or controlled by, or having acted or purported to act for or on behalf of, directly or indirectly, SAW CHIT THU, a person whose property and interests in property are blocked pursuant to E.O. 13581, as amended.

Designated pursuant to section 1(a)(vii) of E.O. 14014 for being owned or controlled by, or having acted or purported to act for or on behalf of, directly or indirectly, SAW CHIT THU, a person whose property and interests in property are blocked pursuant to E.O. 14014.

3. CHIT LINN MYAING TOYOTA COMPANY LIMITED, Bogyoke Street, No 47, 9 Quarter, Hpaan Township, Kayin State, Burma; Organization Type: Construction of buildings; Registration Number 105563345 (Burma) issued 12 Sep 2012; alt. Registration Number 2371/2012-2013 (Burma) issued 12 Sep 2012 [TCO] [BURMA-EO14014] (Linked To: THU, Saw Chit).

Designated pursuant to section 1(a)(ii)(C) of E.O. 13581, as amended, for being owned or controlled by, or having acted or purported to act for or on behalf of, directly or indirectly, SAW CHIT THU, a person whose property and interests in property are blocked pursuant to E.O. 13581, as amended.

Designated pursuant to section 1(a)(vii) of E.O. 14014 for being owned or controlled by, or having acted or purported to act for or on behalf of, directly or indirectly, SAW CHIT THU, a person whose property and interests in property are blocked pursuant to E.O. 14014.

4. SHWE MYINT THAUNG YINN INDUSTRY AND MANUFACTURING COMPANY LIMITED (a.k.a. SHWE MYINT THAUNG YINN INDUSTRY & MANUFACTURING COMPANY LIMITED), Har Mar Oo Street, No. 356, Ward No. 4, Myawaddy Township, Burma; Organization Type: Steam and air conditioning supply; Registration Number 103309565 (Burma) issued 10 Mar 2010; alt. Registration Number 1831/2009-2010 (Burma) issued 10 Mar 2010 [TCO] [BURMA-EO14014] (Linked To: WIN, Tin).

Designated pursuant to section 1(a)(ii)(C) of E.O. 13581, as amended, for being owned or controlled by, or having acted or purported to act for or on behalf of, directly or indirectly, TIN WIN, a person whose property and interests in property are blocked pursuant to E.O. 13581, as amended.

Designated pursuant to section 1(a)(vii) of E.O. 14014 for being owned or controlled by, or having acted or purported to act for or on behalf of, directly or indirectly, TIN WIN, a person whose property and interests in property are blocked pursuant to E.O. 14014.

5. MYANMAR YATAI INTERNATIONAL HOLDING GROUP CO., LTD. (a.k.a. SHWE KOKKO SPECIAL ECONOMIC ZONE; a.k.a. YATAI NEW CITY; a.k.a. YATAI SMART INDUSTRIAL NEW CITY), Hpa-An City, Burma; Shwe Kokko Village, Myawaddy Township, Karen State, Burma; Organization Type: Construction of buildings; Registration Number 103919088 (Burma) issued 14 Feb 2017 [GLOMAG].

Designated pursuant to section 1(a)(ii)(A) of E.O. 13818, for being a foreign person who is responsible for or complicit in, or has directly or indirectly engaged in, serious human rights abuse.

6. YATAI INTERNATIONAL HOLDING GROUP LIMITED (a.k.a. YA TAI INTERNATIONAL HOLDING GROUP COMPANY LIMITED; a.k.a. YATAI INTERNATIONAL HOLDING), Bangkok, Thailand; Organization Type: Activities of holding companies; Business Registration Number 67162900 (Hong Kong) issued 13 Jan 2017; Registration Number 0105560204659 (Thailand) issued 07 Dec 2017 [GLOMAG].

Designated pursuant to section 1(a)(ii)(A) of E.O. 13818, for being a foreign person who is responsible for or complicit in, or has directly or indirectly engaged in, serious human rights abuse.

7. HENG HE BAVET PROPERTY CO LTD (a.k.a. HENG HE BAVET CITY; a.k.a. HENG HE CASINO; a.k.a. HENG HENG CASINO), Bavet Kandal, Bavet, Chantrea, Svay Rieng 20202, Cambodia; Organization Established Date 05 Oct 2018; Organization Type: Construction of buildings; Tax ID No. L001-901805208 (Cambodia); Registration Number 00036482 (Cambodia) [CYBER4].

Designated pursuant to section 1(a)(iii)(C) of E.O. 13694, as further amended, for having materially assisted, sponsored, or provided financial, material, or technological support for, or goods and services to or in support of, cyber-enabled activities originating from, or directed by persons located, in whole or in substantial part, outside the United States that is reasonably likely to result in, or has materially contributed to, a threat to the national security, foreign policy, or economic health or financial stability of the United States, and that has the purpose of or involves causing a misappropriation of funds or economic resources, intellectual property, proprietary or business confidential information, personal identifiers, or financial information for commercial or competitive advantage or private financial gain.

8. HH BANK CAMBODIA PLC (a.k.a. HENG HE CAMBODIA COMMERCIAL BANK PLC; a.k.a. HENGHE CAMBODIA COMMERCIAL BANK PLC; a.k.a. “HENG HE BANK”), 64, Preah Norodom Blvd., Corner Street 178, Sangkat Chey Chumneah, Khan Daun Penh, Phnom Penh, Cambodia; Building No B1, Group 4, Phum Pir, Sangkat Pir, Krong Preah Sihanouk, Preah Sihanouk, Cambodia; Mao Tse Toung Boulevard, Phnom Penh, Cambodia; website https://hhbank.com.kh/; Organization Established Date 25 Dec 2019; Organization Type: Financial and Insurance Activities; Target Type Financial Institution; Tax ID No. L001-902001011 (Cambodia); Registration Number 00050134 (Cambodia) [CYBER4] (Linked To: CHEN, Al Len; Linked To: SU, Liangsheng).

Designated pursuant to section 1(a)(iii)(D) of E.O. 13694, as further amended, for being owned or controlled by, or having acted or purported to act for or on behalf of, directly or indirectly, CHEN, Al Len, a person whose property and interests in property are blocked pursuant to this order.

Designated pursuant to section 1(a)(iii)(D) of E.O. 13694, as further amended, for being owned or controlled by, or having acted or purported to act for or on behalf of, directly or indirectly, SU, Liangsheng, a person whose property and interests in property are blocked pursuant to this order.

9. K B HOTEL CO LTD (a.k.a. KAIBO HOTEL; a.k.a. KB HOTEL; a.k.a. KB HOTEL AND CASINO), Phum 6, Sangkat Buon, Mittakpheap, Preah Sihanouk 18204, Cambodia; Organization Established Date 31 Jan 2019; Organization Type: Short term accommodation activities; Tax ID No. B117-901902908 (Cambodia); Registration Number 00040174 (Cambodia) [CYBER4].

Designated pursuant to section 1(a)(iii)(C) of E.O. 13694, as further amended, for having materially assisted, sponsored, or provided financial, material, or technological support for, or goods and services to or in support of, cyber-enabled activities originating from, or directed by persons located, in whole or in substantial part, outside the United States that is reasonably likely to result in, or has materially contributed to, a threat to the national security, foreign policy, or economic health or financial stability of the United States, and that has the purpose of or involves causing a misappropriation of funds or economic resources, intellectual property, proprietary or business confidential information, personal identifiers, or financial information for commercial or competitive advantage or private financial gain.

10. K B X INVESTMENT CO LTD (a.k.a. KBX INVESTMENT), Phum 9, Boeng Keng Kang Bei, Chamkar Mon, Phnom Penh 12304, Cambodia; Trapeang Chhuk, Teuk Thla, Sen Sok, Phnom Penh, Cambodia; Teuk Thla, Sen Sok, Phnom Penh, Cambodia; Organization Established Date 01 Aug 2017; Organization Type: Construction of buildings; Tax ID No. L001-901703948 (Cambodia); Registration Number 00026834 (Cambodia) [CYBER4] (Linked To: XU, Aimin).

Designated pursuant to section 1(a)(iii)(D) of E.O. 13694, as further amended, for being owned or controlled by, or having acted or purported to act for or on behalf of, directly or indirectly, XU, Aimin, a person whose property and interests in property are blocked pursuant to this order.

11. M D S HENG HE INVESTMENT CO LTD, Sangkum Thmei, Thma Da, Veal Veaeng, Pursat, Cambodia; Phum 14, Tonle Basak, Chamkar Mon, Phnom Penh 12301, Cambodia; Organization Established Date 05 Oct 2018; Organization Type: Construction of buildings; Tax ID No. K002-901805259 (Cambodia); Registration Number 00036483 (Cambodia) [CYBER4].

Designated pursuant to section 1(a)(iii)(C) of E.O. 13694, as further amended, for having materially assisted, sponsored, or provided financial, material, or technological support for, or goods and services to or in support of, cyber-enabled activities originating from, or directed by persons located, in whole or in substantial part, outside the United States that is reasonably likely to result in, or has materially contributed to, a threat to the national security, foreign policy, or economic health or financial stability of the United States, and that has the purpose of or involves causing a misappropriation of funds or economic resources, intellectual property, proprietary or business confidential information, personal identifiers, or financial information for commercial or competitive advantage or private financial gain.

12. T C CAPITAL CO LTD (a.k.a. GOLDEN SUN SKY CASINO AND HOTEL; a.k.a. GOLDEN SUN SKY ENTERTAINMENT CO LTD), Phum 6, Sangkat Buon, Mittakpheap, Preah Sihanouk 18204, Cambodia; Organization Established Date 06 Mar 2017; Organization Type: Short term accommodation activities; Tax ID No. L001-901700777 (Cambodia); Registration Number 00024082 (Cambodia) [CYBER4].

Designated pursuant to section 1(a)(iii)(C) of E.O. 13694, as further amended, for having materially assisted, sponsored, or provided financial, material, or technological support for, or goods and services to or in support of, cyber-enabled activities originating from, or directed by persons located, in whole or in substantial part, outside the United States that is reasonably likely to result in, or has materially contributed to, a threat to the national security, foreign policy, or economic health or financial stability of the United States, and that has the purpose of or involves causing a misappropriation of funds or economic resources, intellectual property, proprietary or business confidential information, personal identifiers, or financial information for commercial or competitive advantage or private financial gain.

Bradley T. Smith,
Director, Office of Foreign Assets Control.

[FR Doc. 2025-17430 Filed 9-9-25; 8:45 am]

BILLING CODE 4810-AL-P